DEPARTMENT OF DEFENSE

GENERAL SERVICES ADMINISTRATION

NATIONAL AERONAUTICS AND SPACE ADMINISTRATION

[OMB Control No. 9000-0155; Docket 2017-0053; Sequence 18]

Submission for OMB Review; Prohibition of Acquisition of Products Produced by Forced or Indentured Child Labor

AGENCY: Department of Defense (DOD), General Services Administration (GSA), and National Aeronautics and Space Administration (NASA).

ACTION: Notice.

SUMMARY: Under the provisions of the Paperwork Reduction Act, the Regulatory Secretariat Division (MVCB) will be submitting to the Office of Management and Budget (OMB) a request to review and approve an extension of a previously approved information collection requirement regarding prohibition of acquisition of products produced by forced or indentured child labor.

DATES: Submit comments on or before March 12, 2018.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Regulations.gov: http://www.regulations.gov. Submit comments via the Federal eRulemaking portal by searching the OMB control number 9000-0155. Select the link that corresponds with “Information Collection 9000-0155, Prohibition of Acquisition of Products Produced by Forced or Indentured Child Labor”. Follow the instructions provided on the screen.

Please include your name, company name (if any), and “Information Collection 9000-0155, Prohibition of Acquisition of Products Produced by Forced or Indentured Child Labor” on your attached document.

• Mail: General Services Administration, Regulatory Secretariat Division (MVCB), 1800 F Street NW, Washington, DC 20405. ATTN: Ms. Mandell/IC 9000-0155, Prohibition of Acquisition of Products Produced by Forced or Indentured Child Labor.

Instructions: Please submit comments only and cite Information Collection 9000-0155, Prohibition of Acquisition of Products Produced by Forced or Indentured Child Labor, in all correspondence related to this collection. All comments received will be posted without change to http://www.regulations.gov, including any personal and/or business confidential information provided.

FOR FURTHER INFORMATION CONTACT: Ms. Zenaida Delgado, Procurement Analyst, Federal Acquisition Policy Division, GSA, at 202-969-7207, or email zenaida.delgado@gsa.gov.

SUPPLEMENTARY INFORMATION:

A. Purpose

This information collection complies with Executive Order 13126, Prohibition of Acquisition of Products Produced by Forced or Indentured Child Labor.

This information is used by Government contracting officers to ensure that a good faith effort has been made to determine whether forced or indentured child labor was used to mine, produce, or manufacture any product on the List furnished under the contract per Executive Order 13126.

The information collection requirements of the Executive Order are evidenced via the certification requirements delineated at FAR 52.212-3 paragraph (i), and 52.222-18.

B. Annual Reporting Burden

DoD, GSA and NASA analyzed the FY 2017 data from the System for Award Management (SAM) to develop the estimated burden hours for this information collection. The following is a summary of the FY 2017 data:

Respondents: 1,104.

Responses per Respondent: 1.

Total Annual Responses: 1,104.

Hours per Response: 0.18.

Total Burden Hours: 198.

Affected Public: Businesses or other for-profit and not-for-profit.

Respondent's Obligation: Required to obtain or retain benefits.

Type of Request: Revision of a currently approved collection.

Reporting Frequency: On occasion.

C. Public Comment

A 60 day notice was published in the Federal Register at 82 FR 55842, on November 24, 2017. No comments were received.

Obtaining Copies of Proposals: Requesters may obtain a copy of the information collection documents from the General Services Administration, Regulatory Secretariat Division (MVCB), 1800 F Street NW, Washington, DC 20405.

Please cite OMB Control No. 9000-0155, Prohibition of Acquisition of Products Produced by Forced or Indentured Child Labor, in all correspondence.

Dated: February 2, 2018.
Lorin S. Curit,
Director, Federal Acquisition Policy Division, Office of Government-wide Acquisition Policy, Office of Acquisition Policy, Office of Government-wide Policy.

[FR Doc. 2018-02587 Filed 2-8-18; 8:45 am]

BILLING CODE 6820-EP-P